DEPARTMENT OF DEFENSE

Office of the Secretary

Availability of the Fiscal Year 2009 Missile Defense Agency Services Contracts Inventory Pursuant to Section 807 of the 2008 National Defense Authorization Act

AGENCY: Missile Defense Agency (MDA), DoD.

ACTION: Notice of availability.

SUMMARY: In accordance with section 2330a of Title 10 United States Code as amended by the National Defense Authorization Act for Fiscal Year 2008 (NDAA 08) Section 807, the Director of the Missile Defense Agency and the Office of the Director, Defense Procurement and Acquisition Policy, Office of Strategic Sourcing (DPAP/SS) will make available to the public the FY2009 inventory of activities performed pursuant to contracts for services. The inventory will be published to the Missile Defense Agency (MDA) Web site at the following location: http://www.mda.mil/business/acquisition_center.html.

DATES: Inventory to be made publicaly available within 30 days after publication of this notice.

ADDRESSES: Send written comments and suggestions concerning this inventory to Mr. Kim Triesler, Acquisition Analyst, MDA/DACP, 6700 Odyssey Dr, Ste. 206, Huntsville, AL 35806.

FOR FURTHER INFORMATION CONTACT: Mr. Kim Triesler at (256) 971-9797 ext. 155 or e-mail Kim.Triesler.ctr@mda.mil.

Dated: January 19, 2011.
Morgan F. Park,
Alternate OSD Federal Register Liaison Officer, Department of Defense.

[FR Doc. 2011-1520 Filed 1-24-11; 8:45 am]

BILLING CODE 5001-06-P